DEPARTMENT OF HEALTH AND HUMAN SERVICES

National Institutes of Health

National Institute on Aging; Amended Notice of Meeting

Notice is hereby given of a change in the meeting of the National Institute on Aging Special Emphasis Panel, October 21, 2024, 10:00 a.m. to October 22, 2024, 06:00 p.m., National Institute on Aging, Gateway Building, 7201 Wisconsin Avenue, Bethesda, MD 20892 which was published in the Federal Register on September 16, 2024, 89 FR 75549.

The FRN was amended due to a location change from 5601 Fishers Lane in Rockville to the National Institute on Aging in Bethesda. The meeting is closed to the public.

Dated: September 30, 2024.
Miguelina Perez,
Program Analyst, Office of Federal Advisory Committee Policy.

[FR Doc. 2024-22883 Filed 10-3-24; 8:45 am]

BILLING CODE 4140-01-P